DEPARTMENT OF THE INTERIOR

[DOI-2020-0004; 212D0102DM, DS64600000, DLSN00000.000000, DX.64601]

Privacy Act of 1974; System of Records

AGENCY: Office of the Secretary, Interior.

ACTION: Rescindment of a system of records notice.

SUMMARY: The Department of the Interior (DOI) is issuing a public notice of its intent to rescind the Privacy Act system of records, INTERIOR/DOI-79, Interior Personnel Records, from its inventory because it is duplicative with existing system of records notice requirements. During a review of DOI system of records notices, it was determined that personnel records of current and recently separated DOI employees maintained by DOI are covered under the government-wide system of records notice, OPM/GOVT-1, General Personnel Records, and the DOI system of records notice, INTERIOR/DOI-85, Payroll, Attendance, Retirement, and Leave Records. This rescindment will eliminate an unnecessary duplicate notice and promote the overall streamlining and management of DOI Privacy Act systems of records.

DATES: These changes take effect on November 24, 2020.

ADDRESSES: You may submit comments identified by docket number [DOI-2020-0004] by any of the following methods:

• Federal eRulemaking Portal: http://www.regulations.gov. Follow the instructions for sending comments.

• Email: DOI_Privacy@ios.doi.gov. Include docket number [DOI-2020-0004] in the subject line of the message.

• U.S. Mail or Hand-Delivery: Teri Barnett, Departmental Privacy Officer, U.S. Department of the Interior, 1849 C Street NW, Room 7112, Washington, DC 20240.

Instructions: All submissions received must include the agency name and docket number [DOI-2020-0004]. All comments received will be posted without change to http://www.regulations.gov, including any personal information provided.

Docket: For access to the docket to read background documents or comments received, go to http://www.regulations.gov.

You should be aware that your entire comment including your personal identifying information, such as your address, phone number, email address, or any other personal identifying information in your comment, may be made publicly available at any time. While you may request to withhold your personal identifying information from public review, we cannot guarantee we will be able to do so.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION: Pursuant to the provisions of the Privacy Act of 1974 (5 U.S.C. 552a), as amended, DOI is rescinding the INTERIOR/DOI-79, Interior Personnel Records, system of records notice from its inventory because it is no longer needed as the personnel records of current and recently separated DOI employees are covered under the Office of Personnel Management (OPM) government-wide system of records notice, OPM/GOVT-1, General Personnel Records, 77 FR 73694 (December 11, 2012), modification published at 80 FR 74815 (November 30, 2015); and the DOI system of records notice, INTERIOR/DOI-85, Payroll, Attendance, Retirement, and Leave Records, 83 FR 34156 (July 19, 2018). During a routine review, DOI determined that the INTERIOR/DOI-79, Interior Personnel Records, system of records notice does not identify any additional individuals, records, or routine uses beyond those specified in the OPM/GOVT-1 and INTERIOR/DOI-85 system of records notices. Therefore, DOI is rescinding the INTERIOR/DOI-79, Interior Personnel Records, system of records notice to avoid duplication of existing system of records notices in accordance with the Office of Management and Budget Circular A-108, Federal Agency Responsibilities for Review, Reporting, and Publication under the Privacy Act.

Rescinding the INTERIOR/DOI-79, Interior Personnel Records, system of records notice will have no adverse impacts on individuals as the records are covered by the published OPM/GOVT-1 and INTERIOR/DOI-85 system of records notices. The rescindment of the INTERIOR/DOI-79 notice will also promote the overall streamlining and management of DOI Privacy Act systems of records.

SYSTEM NAME AND NUMBER:

INTERIOR/DOI-79, Interior Personnel Records.

HISTORY:

64 FR 20010 (April 23, 1999); modification published 73 FR 8342 (February 13, 2008).

Teri Barnett,
Departmental Privacy Officer, Department of the Interior.

[FR Doc. 2020-25910 Filed 11-23-20; 8:45 am]

BILLING CODE 4334-63-P